DEPARTMENT OF AGRICULTURE

Office of the Secretary

Secure Rural Schools Resource Advisory Committees

AGENCY: Office of the Secretary, USDA.

ACTION: Notice of Intent to Establish a Charter.

SUMMARY: The Secretary of Agriculture intends to establish the Eastern Region Resource Advisory Committees (RACs) pursuant to the Emergency, Economic Stabilization Act of 2008, Energy Improvement and Extension Act of 2008, and Tax Extenders and Alternate Minimum Tax Relief Act of 2008 (Pub. L. 110-343) passed into law as an amendment to the Secure Rural School and Community Self-Determination Act of 2000 (Pub. L. No. 106-393) on October 3, 2008. The Eastern Region Resource Advisory Committees are being established to review forest projects (Title II) and to recommend the proposed projects they deem to have merit to the Secretary of Agriculture for approval.

FOR FURTHER INFORMATION CONTACT: Rick Alexander, Payments to States Coordinator, at ralexander@fs.fed.us, (202) 205-1780, or at USDA Forest Service, 1400 Independence Avenue, SW., Mailstop 1111, Washington, DC 20250. Individuals who use telecommunication devices for the deaf (TDD) may call the Federal Information Relay Service (FIRS) at 1-800-877-8339 between 8 a.m. and 8 p.m., Eastern Standard time, Monday through Friday.

SUPPLEMENTARY INFORMATION: Pursuant to the Federal Advisory Committee Act (5 U.S.C. App.II), notice is hereby given that the Secretary of the U.S. Department of Agriculture intends to establish the Eastern Region Resource Advisory Committees. The Secretary has determined the work of these committees are in the public interest and relevant to the duties of the Department of Agriculture. The purpose of these committees is to improve collaborative relationships and to provide advice and recommendations to the Forest Service consistent with the reauthorization of the Secure Rural Schools and Community Self-Determination Act of 2000 (Pub. L. No. 106-393) (Act) as amended by the Emergency, Economic Stabilization Act of 2008, and Tax Extenders and Alternate Minimum Tax Relief Act of 2008 (Pub. L. No. 110-343). The committees are as follow:

1. White Mountain Resource Advisory Committee (Maine)

2. Hiawatha Resource Advisory Committee (Michigan)

3. Gogebic Resource Advisory Committee (Michigan)

4. Huron-Manistee Resource Advisory Committee (Michigan)

5. Ontonagon Resource Advisory Committee (Michigan)

6. Chippewa Resource Advisory Committee (Minnesota)

7. Superior Resource Advisory Committee (Minnesota)

8. Eleven Point Resource Advisory Committee (Missouri)

9. Allegheny Resource Advisory Committee (Pennsylvania)

10. West Virginia Resource Advisory Committee (West Virginia)

11. Chequamegon-Nicolet Resource Advisory Committee (Wisconsin)

12. Nicolet Resource Advisory Committees (Wisconsin)

These Advisory Committees shall consist of 15 members appointed by the Secretary of Agriculture or the Secretary's designee and shall consist of members who represent the interests of the following three categories (16 U.S.C. 500 § 205 (d)):

(A) Five persons that—

i. Represent organized labor or non-timber forest product harvester group,

ii. Represent developed outdoor recreation, off-highway vehicle users, or commercial recreation activities,

iii. Represent energy and mineral development, or commercial or recreational fishing interests,

iv. Represent the commercial timber industry, or

v. Hold Federal grazing permits or other land use permits or represent non-industrial private forest land owners, within the area for which the committee is organized.

(B) Five persons that represent—

i. Nationally recognized environmental organizations,

ii. Regionally or locally recognized environmental organizations,

iii. Dispersed recreational activities,

iv. Archaeological and historical interests, or

v. Nationally or regionally wild horse and burro interest groups, wildlife or hunting organizations, or watershed associations.

(C) Five persons that—

i. Hold State elected office or their designee,

ii. Hold county or local elected office,

iii. Represent American Indian tribes within or adjacent to the area for which the committee is organized,

iv. Are school officials or teachers, or

v. Represent the affected public-at-large.

Equal opportunities practices, in line with USDA policies, will be followed in all appointments to the advisory committees. To ensure that the recommendations of the Committee have taken into account the needs of the diverse groups served by the Department, membership includes, to the extent practicable, individuals with demonstrated ability to represent minorities, women, and person with disabilities.

Dated: June 26, 2009.
Pearlie Reed,
Assistant Secretary of Administration.

[FR Doc. E9-17977 Filed 7-28-09; 8:45 am]

BILLING CODE 3410-11-P